DEPARTMENT OF DEFENSE

Department of the Army; Corps of Engineers

Notice of Intent; Intent To Prepare a Draft Environmental Impact Statement (DEIS) for the Riverport Development and Proposed New Interchange on I-95 in Jasper County, South Carolina

AGENCY: U.S. Army Corps of Engineers, Department of the Army, DOD.

ACTION: Notice of Intent.

SUMMARY: The U.S. Army Corps of Engineers, Charleston District (as the lead agency) and the Federal Highway Administration and Fish and Wildlife Service (as cooperating agencies) intend to prepare a Draft Environmental Impact Statement (DEIS) to assess the likely social, economic and environmental effects of the proposed construction of a mixed use industrial, commercial and residential development with the potential to impact Waters of the United States near Hardeeville in Jasper County, South Carolina. Associated with this development will be the possible construction of a new interchange on I-95, in the vicinity of the mile marker 3 in South Carolina. The DEIS will assess potential effects of a range of alternatives.

DATES: Public Scoping Meeting: One public scoping meeting is planned for Tuesday, August 19th at the Hardeeville City Hall, 205 East Main Street, Hardeeville, SC 29927. An informal open-house information session will be held between 6:00 p.m. and 7:00 p.m. in the City Council Chambers, followed by a formal scoping meeting beginning at 7:00 p.m. and continuing until all comments have been heard in the Community Room. The formal meeting will include an overview of the project as well as an opportunity for members of the public to provide comments. Individuals and organizations that are interested in the proposed activity or whose interests may be affected by the proposed work are encouraged to attend the Scoping Meeting and to submit written comments to the Corps.

FOR FURTHER INFORMATION CONTACT: For further information and/or questions about the proposed project and DEIS, please contact Mr. Shawn Boone, Project Manager, by telephone: 843-329-8158, or toll-free 1-866-329-8187, or by mail: Mr. Shawn Boone, Project Manager, Regulatory Division, 69-A Hagood Avenue, Charleston, SC 29403. For inquiries from the media, please contact the Corps, Charleston District Corporate Communications Officer (CCO), Ms. Glenn Jeffries by telephone: (843) 329-8123.

SUPPLEMENTARY INFORMATION: The Corps is evaluating a proposal from Stratford Land, the City of Hardeeville and Jasper County for a new development, Riverport, and a new interchange on I-95 (Exit 3) in accordance with Corps regulations and the policies and procedures that are established in the National Environmental Policy Act (NEPA). Based on the available information, the Corps has determined that the Riverport development and the proposed new interchange on I-95 have the potential to significantly affect the quality of the human environment and therefore warrant the preparation of an EIS. Additional information about the proposed project and the NEPA process is available on the project Web site at: www.RiverPort-Exit3EIS.com.

1. Description of Proposed Project. The project proposed by Stratford Land is to develop the approximately 5,000 acre tract in Hardeeville, SC as the Riverport mixed-use residential, commercial and business park/light industrial site. Riverport will consist of a 1,755-acre business park, 840-acre commercial village, and 2,390-acre mixed use (residential and commercial) village. The Business Park is to be one of the largest logistics and industrial sites in the Southeast. It is intended to handle some of the container traffic into the Savannah port resulting from the introduction of the post-Panamax Canal ships. As a result of vehicular traffic projected from this industrial park, the City of Hardeeville and Jasper County propose a new interchange at I-95 that connects with the proposed Riverport Parkway to accommodate the increased traffic projected to occur. The Business Park and commercial development will provide a significant economic impact to the area by providing thousands of construction jobs during the building phases and over 24,000 permanent jobs by year 30 of the development.

2. Alternatives. A range of alternatives to the proposed action will be identified, and those found to be reasonable alternatives will be fully evaluated in the DEIS, including: the no-action alternative, the applicant's proposed alternative, alternative site locations, alternatives that may result in avoidance and minimization of impacts, and mitigation measures not in the proposed action. However, this list is not exclusive and additional alternatives may be considered for inclusion.

3. Scoping and Public Involvement Process. A scoping meeting will be conducted to gather information on the scope of the project and alternatives to be addressed in the DEIS. Additional public and agency involvement will be sought through the implementation of a public involvement plan and through an agency coordination team.

4. Significant Issues. Issues associated with the proposed project to be given detailed analysis in the DEIS are likely to include, but are not necessarily limited to, the potential impacts of the proposed development on surface and groundwater quality, aquatic habitat and biota, wetlands and stream habitats, federal and state listed species of concern, indirect and cumulative impacts, the Savannah River Wildlife Refuge, threatened and endangered species, environmental justice, mitigation, emergency response and contingency plans, noise, conservation, economics, cultural resources, aesthetics, general environmental concerns, historic properties, fish and wildlife values, flood hazards, land use, recreation, water supply and conservation, water quality, energy needs, safety, the transportation network, and in general, the needs and welfare of the people.

5. Additional Review and Consultation. Additional review and consultation which will be incorporated into the preparation of this DEIS will include, but will not necessarily be limited to, Section 401 of Clean Water Act; Essential Fish Habitat (EFH) consultation requirements of the Magnuson-Stevens Fishery Conservation and Management Act; the National Environmental Policy Act; the Endangered Species Act; and the National Historic Preservation Act.

6. Availability of the Draft Environmental Impact Statement. The Draft Environmental Impact Statement (DEIS) is anticipated to be available late in 2015. A Public Hearing will be conducted following the release of the DEIS.

John T. Litz,
U.S. Army Corps of Engineers, Charleston District.

[FR Doc. 2014-18270 Filed 7-31-14; 8:45 am]

BILLING CODE 3720-58-P